SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f)(13) and 18 CFR 806.22(f) for the time period specified above:

Water Source Approval—Issued Under 18 CFR 806.22(f)

1. Chief Oil & Gas, LLC.; Pad ID: SGL—12 HARDY EAST UNIT PAD; ABR-202003001; Overton Township, Bradford County, Pa.; Consumptive Use of Up to 2.5000 mgd; Approval Date: March 2, 2020.

2. Chesapeake Appalachia, L.L.C.; Pad ID: Grippo; ABR-20091212.R2; Terry Township, Bradford County, Pa.; Consumptive Use of Up to 7.5000 mgd; Approval Date: March 2, 2020.

3. Chesapeake Appalachia, L.L.C.; Pad ID: Readinger; ABR-20091210.R2; West Burlington Township, Bradford County, Pa.; Consumptive Use of Up to 7.5000 mgd; Approval Date: March 2, 2020.

4. Repsol Oil & Gas USA, LLC; Pad ID: EICK (03 013) W; ABR-20091105.R2; Columbia Township, Bradford County, Pa.; Consumptive Use of Up to 3.0000 mgd; Approval Date: March 2, 2020.

5. SWN Production Company, LLC; Pad ID: HR-16 HALEY PAD; ABR-201412006.R1; Great Bend Township, Susquehanna County, Pa.; Consumptive Use of Up to 3.0000 mgd; Approval Date: March 2, 2020.

6. Chief Oil & Gas, LLC; Pad ID: Teel Unit Drilling Pad #3H; ABR-20091205.R2; Springville Township, Susquehanna County, Pa.; Consumptive Use of Up to 2.0000 mgd; Approval Date: March 5, 2020.

7. BKV Operating, LLC; Pad ID: Procter & Gamble Mehoopany Plant 3V; ABR-20100126.R2; Washington Township, Wyoming County, Pa.; Consumptive Use of Up to 5.0000 mgd; Approval Date: March 5, 2020.

8. BKV Operating, LLC; Pad ID: Procter & Gamble Mehoopany Plant 4V; ABR-20100125.R2; Washington Township, Wyoming County, Pa.; Consumptive Use of Up to 5.0000 mgd; Approval Date: March 5, 2020.

9. BKV Operating, LLC; Pad ID: Procter & Gamble Mehoopany Plant 5V; ABR-20100127.R2; Washington Township, Wyoming County, Pa.; Consumptive Use of Up to 5.0000 mgd; Approval Date: March 5, 2020.

10. SWEPI LP; Pad ID: Thomas 503R; ABR-201408007.R1; Sullivan Township, Tioga County, Pa.; Consumptive Use of Up to 4.0000 mgd; Approval Date: March 10, 2020.

11. Cabot Oil & Gas Corporation; Pad ID: ReynenJ P1; ABR-201412002.R1; Harford Township, Susquehanna County, Pa.; Consumptive Use of Up to 4.2500 mgd; Approval Date: March 10, 2020.

12. SWEPI LP; Pad ID: Busia 457; ABR-20091016.R2; Jackson Township, Tioga County, Pa.; Consumptive Use of Up to 4.0000 mgd; Approval Date: March 10, 2020.

13. SWEPI LP; Pad ID: Phillips 504; ABR-20091018.R2; Rutland Township, Tioga County, Pa.; Consumptive Use of Up to 4.0000 mgd; Approval Date: March 10, 2020.

14. SWEPI LP; Pad ID: Stehmer 420; ABR-20091101.R2; Delmar Township, Tioga County, Pa.; Consumptive Use of Up to 4.0000 mgd; Approval Date: March 10, 2020.

15. SWEPI LP; Pad ID: Chapman 237; ABR-20091206.R2; Sullivan Township, Tioga County, Pa.; Consumptive Use of Up to 4.0000 mgd; Approval Date: March 10, 2020.

16. Chesapeake Appalachia, L.L.C.; Pad ID: Stoorza; ABR-20091208.R2; Terry Township, Bradford County, Pa.; Consumptive Use of Up to 7.5000 mgd; Approval Date: March 10, 2020.

17. Chief Oil & Gas, LLC; Pad ID: Clear Springs Dairy Drilling Pad #1; ABR-20091214.R2; Burlington Township, Bradford County, Pa.; Consumptive Use of Up to 5.0000 mgd; Approval Date: March 10, 2020.

18. Chesapeake Appalachia, L.L.C.; Pad ID: Bartz; ABR-202003002; Monroe Township, Bradford County, Pa.; Consumptive Use of Up to 7.5000 mgd; Approval Date: March 12, 2020.

19. Inflection Energy (PA), LLC; Pad ID: Hannan Well Site; ABR-201412010.R1; Hepburn Township, Lycoming County, Pa.; Consumptive Use of Up to 4.0000 mgd; Approval Date: March 12, 2020.

20. Chesapeake Appalachia, L.L.C.; Pad ID: Roger; ABR-20091209.R2; Auburn Township, Susquehanna County, Pa.; Consumptive Use of Up to 7.5000 mgd; Approval Date: March 12, 2020.

21. SWEPI LP; Pad ID: Brown 425; ABR-20091106.R2; Delmar Township, Tioga County, Pa.; Consumptive Use of Up to 4.0000 mgd; Approval Date: March 12, 2020.

22. SWEPI LP; Pad ID: West 299; ABR-20091111.R2; Richmond Township, Tioga County, Pa.; Consumptive Use of Up to 4.0000 mgd; Approval Date: March 12, 2020.

23. SWEPI LP.; Pad ID: Pannebaker 515; ABR-20091216.R2; Rutland Township, Tioga County, Pa.; Consumptive Use of Up to 4.0000 mgd; Approval Date: March 12, 2020.

24. SWEPI LP.; Pad ID: Jenkins 523; ABR-20091215.R2; Rutland Township, Tioga County, Pa.; Consumptive Use of Up to 4.0000 mgd; Approval Date: March 12, 2020.

25. Tilden Marcellus, LLC; Pad ID: Lick Run Pad; ABR-20091232.R2; Gaines Township, Tioga County, Pa.; Consumptive Use of Up to 4.9900 mgd; Approval Date: March 12, 2020.

26. Tilden Marcellus, LLC; Pad ID: Marshlands K. Thomas Unit #1; ABR-20091231.R2; Elk Township, Tioga County, Pa.; Consumptive Use of Up to 4.9900 mgd; Approval Date: March 12, 2020.

27. Tilden Marcellus, LLC; Pad ID: Button B 901 Pad; ABR-20091234.R2; West Branch Township, Potter County, Pa.; Consumptive Use of Up to 4.9900 mgd; Approval Date: March 12, 2020.

28. Chief Oil & Gas, LLC; Pad ID: Teel Unit Drilling Pad #2H; ABR-20091204.R2; Springville Township, Susquehanna County, Pa.; Consumptive Use of Up to 2.0000 mgd; Approval Date: March 12, 2020.

29. Rockdale Marcellus, LLC; Pad ID: Castle 113D; ABR-20100123.R2; Canton Township, Bradford County, Pa.; Consumptive Use of Up to 4.0000 mgd; Approval Date: March 15, 2020.

30. Rockdale Marcellus, LLC; Pad ID: Miller 116D; ABR-20100124.R2; Union Township, Tioga County, Pa.; Consumptive Use of Up to 4.0000 mgd; Approval Date: March 15, 2020.

31. Cabot Oil & Gas Corporation; Pad ID: LaRueC P2; ABR-20100138.R2; Dimock Township, Susquehanna County, Pa.; Consumptive Use of Up to 5.0000 mgd; Approval Date: March 15, 2020.

32. Repsol Oil & Gas USA, LLC; Pad ID: CASTLE (01 047) J; ABR-20100128.R2; Armenia Township, Bradford County, Pa.; Consumptive Use of Up to 3.0000 mgd; Approval Date: March 15, 2020.

33. Repsol Oil & Gas USA, LLC; Pad ID: FOUST (01 003) J; ABR-20100109.R2; Granville Township, Bradford County, Pa.; Consumptive Use of Up to 5.0000 mgd; Approval Date: March 15, 2020.

34. Repsol Oil & Gas USA, LLC; Pad ID: HOOVER (01 017) G; ABR-20100108.R2; Canton Township, Bradford County, Pa.; Consumptive Use of Up to 3.0000 mgd; Approval Date: March 15, 2020.

35. Repsol Oil & Gas USA, LLC; Pad ID: THOMAS (01 001) FT; ABR-20100112.R2; Troy Township, Bradford County, Pa.; Consumptive Use of Up to 3.0000 mgd; Approval Date: March 15, 2020.

36. Repsol Oil & Gas USA, LLC; Pad ID: THOMAS (01 002) FT; ABR-20100113.R2; Troy Township, Bradford County, Pa.; Consumptive Use of Up to 3.0000 mgd; Approval Date: March 15, 2020.

37. Repsol Oil & Gas USA, LLC; Pad ID: TWL ASSOC (01 016); ABR-20100129.R2; Armenia Township, Bradford County, Pa.; Consumptive Use of Up to 3.0000 mgd; Approval Date: March 15, 2020.

38. Repsol Oil & Gas USA, LLC; Pad ID: VANBLARCOM (03 004) R; ABR-20100103.R2; Columbia Township, Bradford County, Pa.; Consumptive Use of Up to 3.0000 mgd; Approval Date: March 15, 2020.

39. Repsol Oil & Gas USA, LLC; Pad ID: LUTZ (01001) T; ABR-20100110.R2; Troy Township, Bradford County, Pa.; Consumptive Use of Up to 3.0000 mgd; Approval Date: March 15, 2020.

40. SWEPI LP; Pad ID: Butler 127; ABR-20100114.R2; Delmar Township, Tioga County, Pa.; Consumptive Use of Up to 4.0000 mgd; Approval Date: March 15, 2020.

41. SWEPI LP; Pad ID: Hackman 143; ABR-20100118.R2; Delmar Township, Tioga County, Pa.; Consumptive Use of Up to 4.0000 mgd; Approval Date: March 15, 2020.

42. SWEPI LP; Pad ID: Willard 419-1H; ABR-20100105.R2; Delmar Township, Tioga County, Pa.; Consumptive Use of Up to 4.0000 mgd; Approval Date: March 15, 2020.

43. SWEPI LP; Pad ID: Sterling 525; ABR-20100140.R2; Rutland Township, Tioga County, Pa.; Consumptive Use of Up to 4.0000 mgd; Approval Date: March 15, 2020.

44. SWEPI LP; Pad ID: York 480-5H; ABR-20100106.R2; Sullivan Township, Tioga County, Pa.; Consumptive Use of Up to 4.0000 mgd; Approval Date: March 15, 2020.

45. LPR Energy, LLC; Pad ID: Ritchey Unit Drilling Pad; ABR-20091010.R2; Juniata Township, Blair County, Pa.; Consumptive Use of Up to 5.0000 mgd; Approval Date: March 15, 2020.

46. LPR Energy, LLC; Pad ID: Hodge Unit Drilling Pad #1; ABR-20091201.R2; Juniata Township, Blair County, Pa.; Consumptive Use of Up to 5.0000 mgd; Approval Date: March 15, 2020.

47. Chief Oil & Gas, LLC; Pad ID: Walter Unit #1H; ABR-20100135.R2; West Burlington Township, Bradford County, Pa.; Consumptive Use of Up to 5.0000 mgd; Approval Date: March 16, 2020.

48. Chief Oil & Gas, LLC; Pad ID: Elliott Drilling Pad #1H; ABR-20100136.R2; Monroe Township, Bradford County, Pa.; Consumptive Use of Up to 5.0000 mgd; Approval Date: March 16, 2020.

49. Tilden Marcellus, LLC; Pad ID: Ken-Ton 902; ABR-20100102.R2; West Branch Township, Potter County, Pa.; Consumptive Use of Up to 3.9900 mgd; Approval Date: March 16, 2020.

50. SWN Production Company, LLC.; Pad ID: NR-18 Oak Ridge Pad; ABR-201501002.R1; Oakland Township, Susquehanna County, Pa.; Consumptive Use of Up to 4.9990 mgd; Approval Date: March 16, 2020.

51. Chesapeake Appalachia, L.L.C.; Pad ID: Meas; ABR-20100134.R2; Albany Township, Bradford County, Pa.; Consumptive Use of Up to 7.5000 mgd; Approval Date: March 16, 2020.

52. Chesapeake Appalachia, L.L.C.; Pad ID: Mowry2; ABR-20100141.R2; Tuscarora Township, Bradford County, Pa.; Consumptive Use of Up to 7.5000 mgd; Approval Date: March 16, 2020.

53. Chesapeake Appalachia, L.L.C.; Pad ID: Storms; ABR-20100131.R2; Tuscarora Township, Bradford County, Pa.; Consumptive Use of Up to 7.5000 mgd; Approval Date: March 16, 2020.

54. Chesapeake Appalachia, L.L.C.; Pad ID: Jads; ABR-202003003; Monroe Township, Bradford County, Pa.; Consumptive Use of Up to 7.5000 mgd; Approval Date: March 24, 2020.

55. Chesapeake Appalachia, L.L.C.; Pad ID: Harper; ABR-20100142.R2; Terry Township, Bradford County, Pa.; Consumptive Use of Up to 7.5000 mgd; Approval Date: March 24, 2020.

56. Chesapeake Appalachia, L.L.C.; Pad ID: Popivchak; ABR-20100147.R2; Burlington Township, Bradford County, Pa.; Consumptive Use of Up to 7.5000 mgd; Approval Date: March 24, 2020.

57. Chesapeake Appalachia, L.L.C.; Pad ID: Stevens; ABR-20100151.R2; Standing Stone Township, Bradford County, Pa.; Consumptive Use of Up to 7.5000 mgd; Approval Date: March 24, 2020.

58. Chief Oil & Gas, LLC; Pad ID: Bacon Drilling Pad #1; ABR-20100202.R2; Burlington Township, Bradford County, Pa.; Consumptive Use of Up to 2.0000 mgd; Approval Date: March 24, 2020.

59. SWEPI LP; Pad ID: Bowers 408; ABR-20090919.R2; Jackson Township, Tioga County, Pa.; Consumptive Use of Up to 4.0000 mgd; Approval Date: March 24, 2020.

60. Tilden Marcellus, LLC; Pad ID: Mitchell A 903; ABR-20100152.R2; Sest Branch Township, Potter County, Pa.; Consumptive Use of Up to 4.9900 mgd; Approval Date: March 24, 2020.

61. Seneca Resources Company, LLC; Pad ID: PHC 20V; ABR-20100156.R2; Lawrence Township, Clearfield County, Pa.; Consumptive Use of Up to 0.9990 mgd; Approval Date: March 24, 2020.

62. Repsol Oil & Gas USA, LLC; Pad ID: LUTZ (01 007) T; ABR-20100111.R2; Troy Township, Bradford County, Pa.; Consumptive Use of Up to 3.0000 mgd; Approval Date: March 24, 2020.

63. SWN Production Company, LLC; Pad ID: Blye Pad Site; ABR-20100204.R2; Middletown Township, Susquehanna County, Pa.; Consumptive Use of Up to 3.9999 mgd; Approval Date: March 24, 2020.

64. Cabot Oil & Gas Corporation; Pad ID: Baker P1; ABR-20100149.R2; Dimock Township, Susquehanna County, Pa.; Consumptive Use of Up to 5.0000 mgd; Approval Date: March 24, 2020.

65. Range Resources—Appalachia, LLC; Pad ID: Genter 3; ABR-20100153.R2; Cummings Township, Lycoming County, Pa.; Consumptive Use of Up to 2.0000 mgd; Approval Date: March 24, 2020.

66. Range Resources—Appalachia, LLC; Pad ID: Laurel Hill 1; ABR-20100154.R1; Jackson Township, Lycoming County, Pa.; Consumptive Use of Up to 2.0000 mgd; Approval Date: March 24, 2020.

67. SWN Production Company, LLC; Pad ID: Ferguson; ABR-20100201.R2; Herrick Township, Bradford County, Pa.; Consumptive Use of Up to 4.9999 mgd; Approval Date: March 24, 2020.

68. EOG Resources, Inc.; Pad ID: LEE 1H; ABR-20091122.R2; Springfield Township, Bradford County, Pa.; Consumptive Use of Up to 1.9990 mgd; Approval Date: March 24, 2020.

69. EOG Resources, Inc.; Pad ID: LEE 3H; ABR-20091124.R2; Springfield Township, Bradford County, Pa.; Consumptive Use of Up to 1.9990 mgd; Approval Date: March 24, 2020.

70. EOG Resources, Inc.; Pad ID: GUINAN 2H; ABR-20091117.R2; Springfield Township, Bradford County, Pa.; Consumptive Use of Up to 1.9990 mgd; Approval Date: March 24, 2020.

71. EOG Resources, Inc.; Pad ID: HOPPAUGH 2H; ABR-20091120.R2; Springfield Township, Bradford County, Pa.; Consumptive Use of Up to 1.9990 mgd; Approval Date: March 24, 2020.

72. EOG Resources, Inc.; Pad ID: HARKNESS 3H; ABR-20091221.R2; Springfield Township, Bradford County, Pa.; Consumptive Use of Up to 1.9990 mgd; Approval Date: March 24, 2020.

73. Cabot Oil & Gas Corporation; Pad ID: AustinE P1; ABR-202003004; Lenox Township, Susquehanna County, Pa.; Consumptive Use of Up to 5.0000 mgd; Approval Date: March 30, 2020.

74. Inflection Energy (PA), LLC; Pad ID: Winter Well Site; ABR-201410009.R1; Eldred Township, Lycoming County, Pa.; Consumptive Use of Up to 4.0000 mgd; Approval Date: March 30, 2020.

75. SWEPI LP; Pad ID: Johnson 435; ABR-20091102.R2; Shippen Township, Tioga County, Pa.; Consumptive Use of Up to 4.0000 mgd; Approval Date: February 16, 2020.

Authority: Pub. L. 91-575, 84 Stat. 1509 et seq., 18 CFR parts 806, 807, and 808.

Dated May 14, 2020.
Jason E. Oyler,
General Counsel and Secretary to the Commission.

[FR Doc. 2020-10759 Filed 5-18-20; 8:45 am]

BILLING CODE 7040-01-P